DEPARTMENT OF ENERGY

[Case No. 2017-009]

Notice of Petition for Waiver of Jamison Door Company From the Department of Energy Walk-in Cooler and Walk-in Freezer Test Procedure, and Notice of Grant of Interim Waiver

AGENCY: Office of Energy Efficiency and Renewable Energy, Department of Energy.

ACTION: Notice of petition for waiver and grant of an interim waiver and request for comments.

SUMMARY: This document announces receipt of, and publishes a petition for waiver from, Jamison Door Company (“Jamison”), which seeks an exemption from specified portions of the U.S. Department of Energy (“DOE”) test procedure used for determining the energy consumption of walk-in cooler and walk-in freezer doors (collectively, “walk-in doors”). Jamison seeks to use an alternate test procedure to address issues involved in testing the basic models identified in its petition. Jamison asserts in its petition that the percent time off (“PTO”) value specified in the test procedure for walk-in door motors is unrepresentative of actual performance and causes the test procedure to over-estimate the energy use of the motors used in a number of its walk-in door basic models. Accordingly, Jamison seeks to test and rate the basic models identified in its petition using an alternative PTO value for walk-in door motors. DOE is granting Jamison an interim waiver from the DOE's walk-in door test procedure for its specified basic models, subject to use of the alternative test procedure as set forth in this document. DOE solicits comments, data, and information concerning Jamison's petition and its suggested alternate test procedure to inform its final decision on Jamison's waiver request.

DATES: DOE will accept comments, data, and information with respect to the Jamison petition until July 19, 2018.

ADDRESSES: Interested persons are encouraged to submit comments using the Federal eRulemaking Portal at http://www.regulations.gov. Alternatively, interested persons may submit comments, identified by case number “2017-009”, and Docket number “EERE-2017-BT-WAV-0040,” by any of the following methods:

• Federal eRulemaking Portal: http://www.regulations.gov. Follow the instructions for submitting comments.

• Email: JamisonDoor2017WAV0040@ee.doe.gov. Include the case number [Case No. 2017-009] in the subject line of the message.

• Postal Mail: Ms. Lucy deButts, U.S. Department of Energy, Building Technologies Office, Mailstop EE-5B, Petition for Waiver Case No. 2017-009, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, Room 6055, Washington, DC 20024. If possible, please submit all items on a compact disc (“CD”), in which case it is not necessary to include printed copies.

No telefacsimilies (faxes) will be accepted. For detailed instructions on submitting comments and additional information on this process, see section V of this document.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-WAV-0040. The docket web page contains simple instruction on how to access all documents, including public comments, in the docket. See section V for information on how to submit comments through http://www.regulations.gov.

FOR FURTHER INFORMATION CONTACT: Ms. Lucy deButts, U.S. Department of Energy, Building Technologies Office, Mailstop EE-5B, 1000 Independence Avenue SW, Washington, DC 20585-0121. Email: JamisonDoor2017WAV0040@ee.doe.gov.

Mr. Michael Kido, U.S. Department of Energy, Office of the General Counsel, Mail Stop GC-33, Forrestal Building, 1000 Independence Avenue SW, Washington, DC 20585-0103. Telephone: (202) 586-8145. Email: Michael.Kido@hq.doe.gov.

SUPPLEMENTARY INFORMATION:

I. Background and Authority

The Energy Policy and Conservation Act of 1975, as amended (“EPCA” or “the Act”),¹ Public Law 94-163 (42 U.S.C. 6291-6317, as codified), among other things, authorizes DOE to regulate the energy efficiency of a number of consumer products and industrial equipment. Title III, Part C ² of EPCA, added by the National Energy Conservation Act, Public Law 95-619, sec. 441 (Nov. 9, 1978), established the Energy Conservation Program for Certain Industrial Equipment, which sets forth a variety of provisions designed to improve energy efficiency for certain types of industrial equipment. This equipment includes walk-in coolers and walk-in freezers, the focus of this document. (42 U.S.C. 6311(1)(G))

¹ All references to EPCA in this document refer to the statute as amended through the Energy Efficiency Improvement Act of 2015, Public Law 114-11 (April 30, 2015).

² For editorial reasons, upon codification in the U.S. Code, Part C was redesignated as Part A-1.

Under EPCA, DOE's energy conservation program consists essentially of four parts: (1) Testing, (2) labeling, (3) Federal energy conservation standards, and (4) certification and enforcement procedures. Relevant provisions of the Act include definitions (42 U.S.C. 6311), energy conservation standards (42 U.S.C. 6313), test procedures (42 U.S.C. 6314), labeling provisions (42 U.S.C. 6315), and the authority to require information and reports from manufacturers (42 U.S.C. 6316).

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA. (42 U.S.C. 6316(a); 42 U.S.C. 6295(s))

Under 42 U.S.C. 6314, EPCA sets forth the criteria and procedures DOE must follow when prescribing or amending test procedures for covered equipment. EPCA requires that any test procedures prescribed or amended under this section must be reasonably designed to produce test results reflecting the energy efficiency, energy use, or estimated annual operating costs during a representative average use cycle or period of use, and requires that test procedures not be unduly burdensome to conduct. (42 U.S.C. 6314(a)(2)) The test procedure for walk-in doors is contained in 10 CFR part 431, subpart R, appendix A.

The regulations set forth in 10 CFR 431.401 provide that upon receipt of a petition, DOE will grant a waiver from the test procedure requirements if DOE determines either that the basic model for which the waiver was requested contains a design characteristic that prevents testing of the basic model according to the prescribed test procedure, or that the prescribed test procedure evaluates the basic model in a manner so unrepresentative of its true energy consumption characteristics as to provide materially inaccurate comparative data. 10 CFR 431.401(f)(2).

DOE may grant a waiver subject to conditions, including adherence to alternate test procedures. Id. As soon as practicable after the granting of any waiver, DOE will publish in the Federal Register a notice of proposed rulemaking to amend its regulations so as to eliminate any need for the continuation of such waiver. 10 CFR 431.401(l) As soon thereafter as practicable, DOE will publish in the Federal Register a final rule. Id.

The waiver process also provides that DOE may grant an interim waiver if it appears likely that the underlying petition for waiver will be granted and/or if DOE determines that it would be desirable for public policy reasons to grant immediate relief pending a determination on the underlying petition for waiver. 10 CFR 431.401(e)(2). Within one year of issuance of an interim waiver, DOE will either: (i) Publish in the Federal Register a determination on the petition for waiver; or (ii) publish in the Federal Register a new or amended test procedure that addresses the issues presented in the waiver. 10 CFR 431.401(h)(1).

When DOE amends the test procedure to address the issues presented in a waiver, the waiver will automatically terminate on the date on which use of that test procedure is required to demonstrate compliance. 10 CFR 431.401(h)(2).

II. Jamison's Petition for Waiver and Application for Interim Waiver

On July 26, 2017, Jamison filed a petition for waiver and a petition for interim waiver from the test procedure applicable to walk-in doors set forth in 10 CFR part 431, subpart R, appendix A ³ Appendix A accounts for the power consumption of all electrical components associated with each door and discounts the power consumption of electrical components based on their operating time by an assigned PTO value. 10 CFR part 431, subpart R, appendix A, section 4.5.2 Section 4.5.2 specifies a PTO of 25% for “other electricity-consuming devices” (i.e., electrical devices other than lighting or anti-sweat heaters) that have demand-based controls, and a PTO of 0% for other electricity-consuming devices without a demand-based control. (Id.) As described in its petition, the walk-in door basic models specified by Jamison are designed with door motors, which are considered “other electricity-consuming devices” with demand-based control.

³ Jamison's petition for waiver and petition for interim waiver can be found in the regulatory docket at https://www.regulations.gov/document?D=EERE-2017-BT-WAV-0040-0002.

In its petition, Jamison states that the DOE test procedure would grossly overstate the energy used by the motorized door models identified in its waiver request.⁴ Jamison explains that assuming a more favorable application of a 25% PTO (as opposed to a 0% PTO) would imply that the door motor is running 18 hours per day, which is unrealistic for the walk-in doors specified in its petition given typical door motor use patterns of such doors. Thus, in light of the implications stemming from the assumptions built into the test procedure's prescribed PTO value, Jamison petitioned DOE for permission to apply a PTO value of 93.5% for walk-in door motors that move doors at a speed of at least 12 inches per second (“in/s”) or faster.

⁴ Due to the lengthy list of affected walk-in door basic models covered by Jamison's July 26, 2017 petition, DOE is making the complete list publicly available in the relevant regulatory docket. The specific basic models identified in Appendix I of the petition can be found in the docket at https://www.regulations.gov/document?D=EERE-2017-BT-WAV-0040-0002.

Jamison's suggested PTO value is dependent on its assumptions regarding the doors' size, motor speed and use frequency—that is, how many times per day the doors are opened. As an example, Jamison offered that its 96-inch doors have an average drive cycle time of 6 seconds and may undergo 40 door opening events per hour. Applying these assumptions, Jamison stated that the door motor would be in operation for 240 seconds per hour, equivalent to a 93.3% PTO value.

Although not in the context of electricity-consuming devices, DOE previously considered the operational characteristics of passage and freight doors ⁵ in proposing a procedure to determine the energy use associated with infiltration resulting from the opening of the walk-in doors. 75 FR 55068, 55085 (September 9, 2010) (supplemental proposal discussing potential assumptions to apply to address air infiltration across door types). In that context, DOE proposed, based on market research and stakeholder feedback, that passage and freight doors have 60 and 120 door openings per day, respectively. Id.⁶ Those values correlate to fewer cycles than assumed in the Jamison analysis and are consistent with higher PTO values. Jamison notes that with a 6-second motor cycle time, freight doors operating with the DOE assumed frequency would run 30 seconds per hour, equivalent to a PTO of 99.2%. However, Jamison's petition seeks to apply the same PTO value to its listed basic models that are 24 to 288 inches (i.e. 2 to 24 feet) wide and have motors driven at a minimum speed of 12 inches per second (“in/s”). Assuming the largest door covered by the waiver (24 feet) is paired with the slowest covered motor (12 in/s), the most consumptive scenario, the proposed 93.5% PTO would correspond to 117 door openings per day, approximately equal to the 120 cycles per day previously assumed for freight doors by DOE. Accordingly, DOE believes that the PTO value that Jamison seeks to use for the specified basic models is appropriate.

⁵ DOE defines a freight door as a door that is not a display door and is equal to or larger than 4 feet wide and 8 feet tall and a passage door as a door that is not a freight door or display door. Jamison's petition for waiver does not offer specific door dimensions of each basic model; instead Jamison gives the door face area for each basic model and minimum and maximum lengths and widths of Jamison doors. However, the range of dimensions in the petition indicate that the listed basic models include both freight and passage doors.

⁶ DOE's prior consideration did not distinguish between motorized and non-motorized doors and DOE ultimately determined not to include door opening infiltration measurements of the test procedure for walk-ins. See 76 FR 21580, 21595 (April 15, 2011).

DOE will grant an interim waiver if it appears likely that the petition for waiver will be granted, and/or if DOE determines that it would be desirable for public policy reasons to grant immediate relief pending a determination of the petition for waiver. See 10 CFR 431.401(e)(2). DOE understands that absent an interim waiver, Jamison's specified basic models cannot be tested and rated for energy consumption on a basis representative of their true energy consumption characteristics. DOE has reviewed the alternate procedure suggested by Jamison and concludes that the PTO value suggested by Jamison would allow for an accurate estimation of its walk-in door motor's energy use, and alleviate the problems with walk-in door testing identified by Jamison for the basic models specified in its petition. Thus, it appears likely that Jamison's petition for waiver will be granted. Furthermore, DOE has determined that it is desirable for public policy reasons to grant Jamison immediate relief pending a determination of the petition for waiver.

III. Alternate Test Procedure

EPCA requires that manufacturers use DOE test procedures when making representations about the energy consumption and energy consumption costs of products covered by the statute. (42 U.S.C. 6314(d)) Consistent representations are important for manufacturers to use in making representations about the energy efficiency of their products and to demonstrate compliance with applicable DOE energy conservation standards. Pursuant to the regulations applicable to waivers and interim waivers from applicable test procedures at 10 CFR 431.401 and after considering public comments on the petition, DOE will announce its decision as to an alternate test procedure for the equipment identified by Jamison in a subsequent Decision and Order.

In its petition, Jamison suggests that the basic models listed in the petition must be tested according to the test procedure for walk-in doors prescribed by DOE at 10 CFR part 431, subpart R, appendix A, except that the PTO value for door motors is modified from 25% to 93.5% for freight and passage doors.

During the period of the interim waiver in this document, the petitioner must test the specified basic models according to the test procedure as discussed in this section, i.e., using a PTO value of 93.5%.

IV. Summary of Grant of an Interim Waiver

DOE has analyzed the technical performance data provided by Jamison and agrees that for the basic models specified in the waiver, the suggested 93.5% PTO for the door motors used in the specified models is more representative of actual energy use than the existing value of 25%. Based on Jamison's information, DOE concludes that a 93.5% PTO adequately accounts for the specified basic model's wide range in door sizes and door motor speeds.

For the reasons above, DOE is granting Jamison's petition for interim waiver from testing for its specified walk-in door basic models. The substance of DOE's Interim Waiver Order is summarized below.

Jamison is required to use the alternate test procedures set forth in this document to test and rate the walk-in door basic models listed in Appendix I of its July 26, 2017 petition. See https://www.regulations.gov/docketBrowser?rpp=25&so=DESC&sb=commentDueDate&po=0&D=EERE-2017-BT-WAV-0040. Jamison is permitted to make representations of the energy use of these basic models for compliance, marketing, or other purposes only to the extent that such products have been tested in accordance with the provisions set forth in the alternate test procedure and such representations fairly disclose the results of such testing in accordance with 10 CFR 429.53.

DOE makes decisions on waivers and interim waivers for only those basic models specifically set out in the petition, not future models that may be manufactured by the petitioner. Jamison may request that DOE extend the scope of a waiver or an interim waiver to include additional basic models employing the same technology as the basic model(s) set forth in the original petition consistent with 10 CFR 431.401(g). In addition, DOE notes that granting of an interim waiver or waiver does not release a petitioner from the certification requirements set forth at 10 CFR part 429. See also 10 CFR 431.401(a) and (i).

Unless otherwise rescinded or modified, the interim waiver shall remain in effect consistent with 10 CFR 431.401(h). DOE may rescind or modify a waiver or interim waiver at any time upon a determination that the factual basis underlying the petition for waiver or interim waiver is incorrect, or upon a determination that the results from the alternate test procedure are unrepresentative of the basic model's true energy consumption characteristics. See 10 CFR 431.401(k). Furthermore, the interim waiver is conditioned upon the validity of the door motor performance characteristics, statements, representations, and documentary materials provided by Jamison.

V. Summary and Request for Comments

DOE is publishing Jamison's petition for waiver in its entirety, pursuant to 10 CFR 431.401(b)(1)(iv), absent any confidential business information. Jamison did not request any of the information in its petition to be considered confidential business information. The petition includes a suggested alternate test procedure, as specified in section III of this document, to determine the efficiency of Jamison's specified basic models of walk-in doors. DOE may consider including the alternate procedure specified in the Interim Waiver Order in a subsequent Decision and Order.

DOE invites all interested parties to submit in writing by July 19, 2018, comments and information on all aspects of the petition, including the alternate test procedure. Pursuant to 10 CFR 431.401(d), any person submitting written comments to DOE must also send a copy of such comments to the petitioner. The contact information for the petitioner is Jason Derrick, jad@JamisonDoor.com, 55 J.V. Jamison Drive Hagerstown, MD 21740-3916.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

Signed in Washington, DC, on June 8, 2018.
Kathleen B. Hogan,
Deputy Assistant Secretary for Energy Efficiency, Energy Efficiency and Renewable Energy.

BILLING CODE 6450-01-P

[FR Doc. 2018-13113 Filed 6-18-18; 8:45 am]

BILLING CODE 6450-01-C